DEPARTMENT OF LABOR

Employment and Training Administration

[TA-W-71,572; TA-W-71,572A; TA-W-71,572B; TA-W-71,572C]

Amended Revised Determination on Reconsideration

TA-W-71,572

SEVERSTAL WHEELING, INC., A SUBSIDIARY OF SEVERSTAL NORTH AMERICA, INC., CURRENTLY KNOWN AS RG STEEL WHEELING, LLC, MARTINS FERRY, OHIO

TA-W-71,572A

SEVERSTAL WHEELING, INC., A SUBSIDIARY OF SEVERSTAL NORTH AMERICA, INC., CURRENTLY KNOWN AS RG STEEL WHEELING, LLC, YORKVILLE, OHIO

TA-W-71,572B

SEVERSTAL WHEELING, INC., A SUBSIDIARY OF SEVERSTAL NORTH AMERICA, INC., CURRENTLY KNOWN AS RG STEEL WHEELING, LLC, MINGO JUNCTION, OHIO

TA-W-71,572C

SEVERSTAL WHEELING, INC., A SUBSIDIARY OF SEVERSTAL NORTH AMERICA, INC., CURRENTLY KNOWN AS RG STEEL WHEELING, LLC, STEUBENVILLE, OHIO

In accordance with Section 223 of the Trade Act of 1974, as amended (“Act”), 19 U.S.C. 2273, the Department of Labor issued a Notice of Revised Determination on Reconsideration on May 6, 2011, applicable to workers of Severstal Wheeling, Inc., a subsidiary of Severstal North America, Inc., Martins Ferry, Ohio; Severstal Wheeling, Inc., a subsidiary of Severstal North America, Inc., Yorkville, Ohio (TA-W-71,572A); Severstal Wheeling, Inc., a subsidiary of Severstal North America, Inc., Mingo Junction, Ohio (TA-W-71,572B); and Severstal Wheeling, Inc., a subsidiary of Severstal North America, Inc., Steubenville, Ohio (TA-W-71,572C). The workers produce a variety of steel coils. The Revised Determination was published in the Federal Register on May 20, 2011 (76 FR 29276-29277).

At the request of the State agency, the Department reviewed the certification for workers of the subject firm. New information shows that in March 2011, RG Steel, LLC, a subsidiary of The Renco Group purchased all of the stocks of Severstal Wheeling, Inc., a subsidiary of Severstal North America, Inc. The Martins Ferry, Ohio, Yorkville, Ohio, Mingo Junction, Ohio and Steubenville, Ohio locations of Severstal Wheeling, Inc., a subsidiary of Severstal North America, Inc., is currently known as RG Steel Wheeling, LLC. Workers separated from employment at the above mentioned locations of the subject firm have their wages reported under a separate unemployment insurance (UI) tax account under the name RG Steel Wheeling, LLC.

Accordingly, the Department is amending this certification to properly reflect this matter.

The intent of the Department's Revised Determination on Reconsideration is to include all workers of the subject firm who were adversely affected by increased imports of steel coils.

The amended notice applicable to TA-W-71,572, TA-W-71,572A, TA-W-71,572B, and TA-W-71,572C are hereby issued as follows:

All workers of Severstal Wheeling, Inc., a subsidiary of Severstal North America, Inc., currently known as RG Steel Wheeling, LLC, Martins Ferry, Ohio (TA-W-71,572); Severstal Wheeling, Inc., a subsidiary of Severstal North America, Inc., currently known as RG Steel Wheeling, LLC, Yorkville, Ohio (TA-W-71,572A); Severstal Wheeling, Inc., a subsidiary of Severstal North America, Inc., currently known as RG Steel Wheeling, LLC, Mingo Junction, Ohio (TA-W-71,572B); and Severstal Wheeling, Inc., a subsidiary of Severstal North America, Inc., currently known as RG Steel Wheeling, LLC, Steubenville, Ohio (TA-W-71,572C), who became totally or partially separated from employment on or after June 17, 2008, through May 6, 2013, and all workers in the group threatened with total or partial separation from employment on the date of certification through two years from the date of certification, are eligible to apply for adjustment assistance under Chapter 2 of Title II of the Trade Act of 1974, as amended.

Signed at Washington, DC, this 6th day of June 2011.
Del Min Amy Chen,
Certifying Officer, Office of Trade Adjustment Assistance.

[FR Doc. 2011-14817 Filed 6-14-11; 8:45 am]

BILLING CODE 4510-FN-P